DEPARTMENT OF COMMERCE

National Oceanic and Atmospheric Administration

50 CFR Parts 223 and 224

[I.D. 090204F]

Endangered and Threatened Species: Notice of Public Hearings on Proposed Listing Determinations for Salmonids in California

AGENCY: National Marine Fisheries Service (NMFS), National Oceanic and Atmospheric Administration (NOAA), Commerce.

ACTION: Notice of public hearings.

SUMMARY: In June 2004, NMFS proposed new listing determinations for 27 Evolutionarily Significant Units (ESUs) of salmon and O. mykiss as threatened and endangered under the ESA, including 10 ESUs in California. NMFS recently extended the public comment period for these proposals to October 20, 2004, and also announced a series of eight public meetings/hearings that will be held in the Pacific Northwest. In this notice, NMFS is announcing that public hearings will also be held at six locations in California from late September through mid-October to provide additional opportunities for the public and other interested parties to comment on the subject proposals.

DATES: Written comments must be received by October 20, 2004. See SUPPLEMENTARY INFORMATION for the specific public hearing dates.

ADDRESSES: You may submit comments on the proposed listing determinations for 27 ESUs of West Coast Salmon and O. mykiss (69 FR 33101; June 14, 2004) by any of the following methods:

E-mail: The mailbox address for submitting e-mail comments on the new listing determination proposals is salmon.nwr@noaa.gov. Please include in the subject line of the e-mail comment the document identifier “Proposed Listing Determinations.”

Mail: Submit written comments and information to Assistant Regional Administrator, NMFS, Protected Resources Division, 501 W. Ocean Blvd., Suite 4200, Long Beach, California, 90802-4213. Please identify the comment as regarding the “Proposed Listing Determinations.”

Fax: 562-980-4027. Please identify whether the fax comment as regarding the “Proposed Listing Determinations.”

Copies of the Federal Register notices cited herein and additional salmon-related materials are available on the Internet at http://www.nwr.noaa.gov.

FOR FURTHER INFORMATION CONTACT: Craig Wingert, NMFS, Southwest Region, (562) 980-4021.

SUPPLEMENTARY INFORMATION:

Background

On June 14, 2004, NMFS published proposed new ESA listing determinations for 27 salmon and O. mykiss ESUs, including ten ESUs that occur in California (69 FR 33101). The 27 proposed listing determinations include 162 total hatchery programs, as part of four ESUs being proposed for endangered status and 23 ESUs being proposed for threatened status. In addition, NMFS proposed amendments to the existing 4(d) protective regulations for the proposed threatened ESUs.

Extension of Public Comment Period

Several requests were received to extend the comment period for the proposed listing determinations for the 27 ESUs. The original comment period for the proposed listing determinations was to end on September 13, 2004, but has recently been extended to October 20, 2004 (69 FR 53031), to allow additional opportunity for public comment (see DATES and ADDRESSES).

Public Hearings

Joint Commerce-Interior ESA implementing regulations state that the Secretary shall promptly hold at least one public hearing if any person requests one within 45 days of publication of a proposed regulation to list a species or to designate critical habitat (see 50 CFR 424.16(c)(3)). In order to provide the public additional opportunity provide comments on these new listing determination proposals, NMFS will be holding six public hearings in California at the specific dates and locations listed below:

(1) September 22, 2004; 6:30-9:30pm at the North Coast Inn, 4975 Valley West Blvd., Arcata, CA 95521 (2) September 23, 2004; 6:30-9:30pm at the DoubleTree Hotel Sonoma Wine Country, One DoubleTree Drive, Rohnert Park, CA 94928

(3) September 28, 2004; 6:30-9:30pm at the Best Western Hilltop Inn, 2300 Hilltop Drive, Redding, CA 96002

(4) September 28, 2004; 6:30-9:30pm at the Monterey Beach Resort, 2600 Sand Dunes Drive, Monterey, CA 93940

(5) October 12, 2004; 6:30-9:30pm at the Radisson Hotel Sacramento, 500 Leisure Lane, Sacramento, CA 95815

(6) October, 12, 2004; 6:30-9:30pm at Fess Parker's DoubleTree Resort, 633 East Cabrillo Blvd., Santa Barbara, CA 93103

NMFS has scheduled these hearings to allow affected stakeholders and members of the public the opportunity to provide comments directly to agency staff during the comment period. However, these public meetings are not the only opportunity for the public to provide input on these proposals. The public and stakeholders are encouraged to continue to comment and provide input to NMFS on the proposals (via correspondence, e-mail, and the Internet; see ADDRESSES, above) up until the scheduled close of the comment period on October 20, 2004.

References

Copies of the Federal Register notices and related materials cited herein are available on the Internet at http://nwr.noaa.gov, or upon request (see ADDRESSES section above).

Authority: 16 U.S.C. 1531 et seq.

Dated: September 3, 2004.
Laurie K. Allen,
Director, Office of Protected Resources, National Marine Fisheries Service.

[FR Doc. 04-20425 Filed 9-3-04; 2:49 pm]

BILLING CODE 3510-22-S